DEPARTMENT OF COMMERCE

Foreign-Trade Zones Board

[Docket 25-2007]

Foreign-Trade Zone 44- Mount Olive, New Jersey, Expansion of FTZ 44 and Scope of Manufacturing Authority

Correction

The Federal Register notice published on July 31, 2007 (72 FR 41704, 7/31/07) describing the application by the New Jersey Commerce, Economic Growth & Tourism Commission, grantee of FTZ 44, requesting an expansion of FTZ 44 and the scope of manufacturing authority conducted under zone procedures within FTZ 44 for Givaudan Fragrances Corporation, in Mt. Olive, New Jersey, is corrected as follows:

In paragraph 3, starting with line 16 and subsequent lines 17 and 21, “Bordertown” should read “Bordentown.”

Dated: August 16, 2007.
Andrew McGilvray,
Executive Secretary.

[FR Doc. E7-16828 Filed 8-23-07; 8:45 am]

BILLING CODE 3510-DS-S